DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS) (last amended at 75 FR 14176-14178, dated March 24, 2010 and more recently at 75 FR 82405, dated December 30, 2010) and Part A, Office of the Secretary, Statement of Organization, Functions, and Delegations of Authority (last amended at 75 FR 20364-65, dated April 19, 2010 and more recently at 75 FR 53304-05, dated August 31, 2010) are amended to reflect the establishment of a new Center for Consumer Information and Insurance Oversight within CMS and the disestablishment of the Office of Consumer Information and Insurance Oversight within the Office of the Secretary, as follows:

(1) Under Part A, Chapter AA, Section AA.10 Organization, delete the following: “Office of Consumer Information and Insurance Oversight (AU).”

(2) Under Part A, delete Chapter AU, “Office of Consumer Information and Insurance Oversight,” in its entirety.

(3) Under Part F, CMS, FC. 10 Organizations, insert the following new Center for Consumer Information and Insurance Oversight (FCR).

(4) Under Part F, CMS, FC. 20 Functions, insert the following description of the Center for Consumer Information and Insurance Oversight (FCR):

Center for Consumer Information and Insurance Oversight (FCR)

• Provides national leadership in setting and enforcing standards for health insurance that promote fair and reasonable practices to ensure affordable, quality health care coverage is available to all Americans.

• Provides consumers with comprehensive information on insurance coverage options currently available so they may make informed choices on the best health insurance for themselves and their families and issues consumer assistance grants to States.

• Implements, monitors compliance with, and enforces the new rules governing the insurance market such as the prohibition on rescissions and on pre-existing condition exclusions for children. Conducts external appeals for States that do not have that authority.

• Implements, monitors compliance with, and enforces the new rules regarding medical loss ratio standards and the insurance premium rate review process, and issues premium rate review grants to States.

• Administers the Pre-Existing Condition Insurance Plan program and associated grant funding to States, the Early Retiree Reinsurance Program, and the Consumer Operated and Oriented Plan program.

• Collects, compiles and maintains comparative pricing data for an Internet portal providing information on insurance options, and provides assistance to enable consumers to obtain maximum benefit from the new health insurance system.

• Collects, compiles and maintains comparative pricing data for the Department's Web site, provides assistance to enable consumers to understand the new health insurance laws and regulations, and establishes and issues consumer assistance grants to States.

• Develops and implements policies and rules governing State-based Exchanges, establishes and issues Exchange Planning and Establishment to States, oversees the operations of State-based Exchanges, and administers Exchange in States that elect not to establish their own.

(Authority: 44 U.S.C. 3101)

Dated: January 20, 2011.
Donald M. Berwick,
Administrator.

[FR Doc. 2011-1580 Filed 1-21-11; 11:15 am]

BILLING CODE 4120-01-P